DEPARTMENT OF ENERGY

Federal Energy Regulatory Commission

[Project No. 10661-051]

Indiana Michigan Power Company; Notice of Application Accepted for Filing, Soliciting Motions To Intervene and Protests, Ready for Environmental Analysis, and Soliciting Comments, Preliminary Terms and Conditions, and Preliminary Fishway Prescriptions

Take notice that the following hydroelectric application has been filed with the Commission and is available for public inspection.

a. Type of Application: Subsequent License.

b. Project No.: 10661-051.

c. Date filed: September 30, 2021.

d. Applicant: Indiana Michigan Power Company.

e. Name of Project: Constantine Hydroelectric Project (Constantine Project).

f. Location: The Constantine Project is located on the St. Joseph River in the Village of Constantine in St. Joseph County, Michigan. The project does not occupy federal lands.

g. Filed Pursuant to: Federal Power Act 16 U.S.C. 791(a)-825(r).

h. Applicant Contact: Jonathan Magalski, Environmental Supervisor, Renewables, Indiana Michigan Power Company; 1 Riverside Plaza, Columbus, Ohio 43215 at (614) 716-2240 or email at jmmagalski@aep.com.

i. FERC Contact: Lee Emery at (202) 502-8379 or email at lee.emery@ferc.gov.

j. Deadline for filing comments, recommendations, terms and conditions, and prescriptions: 60 days from the issuance date of this notice; reply comments are due 105 days from the issuance date of this notice.

The Commission strongly encourages electronic filing. Please file motions to intervene, protests, comments, recommendations, preliminary terms and conditions, and preliminary fishway prescriptions using the using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper request. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-10661-051.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. The Constantine Project consists of: (1) an 525-acre reservoir with a storage capacity of 5,750 acre-feet at a water surface elevation of 782.94 feet National Geodetic Vertical Datum (NGVD); (2) a 561.25-foot-long dam consisting of, from east to west: (a) a 250-foot-long, 22.5-foot-high embankment with a top elevation of 790 feet NGVD, (b) a 241.25-foot-long, 12-foot-high uncontrolled concrete overflow spillway dam with a fixed crest elevation of 781.96 feet NGVD, topped by 0.94-foot-high flashboards with a crest elevation of 782.90 feet NGVD, which includes a 4-foot sluice gate at the left abutment, and (c) a 70-foot-long earthen embankment; (3) a 650-foot-long, 20-foot-high earthen detached dike that begins 1,500 feet east of the left abutment of the spillway dam, with a top elevation of 790 feet NGVD; (4) a 68-foot-long, 20-foot-high concrete headgate structure consisting of seven wooden 15-foot-high vertical slide gates with a sill elevation of 770.00 feet NGVD with six 7.83-foot-long gates and one 6.75-foot-long gate located at the entrance to the power canal; (5) a 1,270-foot-long power canal with a bottom width of 60 feet; (6) a 140-foot-long, 30-foot-wide brick powerhouse; (7) trash racks in front of the forebay at the entrance to the powerhouse; (8) four vertical shaft Francis turbines each coupled to a 300-kilowatt generator, for a total installed capacity of 1.2 megawatts; (9) a switchyard adjacent to the powerhouse with three step-up transformers; (10) a 50-foot-long, 2.4-kilovolt transmission line; and (11) appurtenant facilities.

The Constantine Project is operated in a run-of-river mode with an estimated average annual energy production of 4,933 megawatt-hours. Indiana Michigan Power Company proposes to continue operating the project as a run-of-river facility and does not propose any new construction to the project.

m. A copy of the application can be viewed on the Commission's website at http://www.ferc.gov using the “eLibrary” link. Enter the docket number excluding the last three digits in the docket number field to access the document.

At this time, the Commission has suspended access to the Commission's Public Reference Room, due to the proclamation declaring a National Emergency concerning the Novel Coronavirus Disease (COVID-19), issued by the President on March 13, 2020. For assistance, contact FERC at FERCOnllineSupport@ferc.gov or call toll-free, (886) 208-3676 or TTY, (202) 502-8659.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. The license applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please note that the certification request must be sent to the certifying authority and to the Commission concurrently.

p. Procedural schedule: The application will be processed according to the following schedule. Revisions to the schedule will be made as appropriate.

Milestone | Target date
Deadline for Filing Protest, Motion to Intervene, Comments, Recommendations, Preliminary Terms and Conditions, and Preliminary Fishway Prescriptions | November 2022.
Deadline for Filing Reply Comments | January 2023.

q. Final amendments to the application must be filed with the Commission no later than 30 days from the issuance date of this notice.

Dated: September 30, 2022.
Kimberly D. Bose,
Secretary.

[FR Doc. 2022-21762 Filed 10-5-22; 8:45 am]

BILLING CODE 6717-01-P